ELECTION ASSISTANCE COMMISSION

2 CFR Part 5801

Adoption of Uniform Administrative Requirements, Cost Principles, and Audit Requirements for Federal Awards

AGENCY: Election Assistance Commission.

ACTION: Final rule.

SUMMARY: The U.S. Election Assistance Commission (EAC) is publishing this final rule to formally adopt the Office of Management & Budget's Uniform Administrative Requirements, Cost Principles, and Audit Requirements for Federal Awards regulations for EAC grants management, which is already included in the EAC's agreements with its grant recipients.

DATES: This final rule is effective December 20, 2024.

FOR FURTHER INFORMATION CONTACT: Camden Kelliher, EAC General Counsel. Phone: 202-360-3160, email: ckelliher@eac.gov.

SUPPLEMENTARY INFORMATION: Through its terms and conditions of its grant awards, the EAC requires grant award recipients and sub-recipients to abide by all federal financial assistance requirements, including 2 CFR part 200. The EAC already has regulations adopting 2 CFR part 180, which can be found at 2 CFR part 5800.

On April 4, 2024, the Office of Management & Budget (OMB) issued memorandum M-24-11, Reducing Burden in the Administration of Federal Financial Assistance in effort to provide government-wide direction to federal agencies on improving the management of federal financial assistance and to ensure the consistent management of such assistance. On April 22, 2024, OMB issued a final rule officially revising its regulations pertaining to federal financial assistance management in title 2 of the CFR and requiring agencies to implement the newly revised regulations as quickly as possible by taking appropriate steps to ensure the regulations apply to all federal financial awards issued on or after October 1, 2024.

The Help America Vote Act of 2002 limits the EAC's rulemaking authority to only to the extent permitted under Section 9(a) of the National Voter Registration Act. However, the EAC in this instance is “adopting” 2 CFR part 200—the EAC is not “making” rules. Furthermore, 2 CFR 200.106 states agencies awarding federal funds must implement the OMB guidance in 2 CFR in codified regulations.

Waiver of Proposed Rulemaking

The rule issued by the EAC concerns matters relating to “grants, benefits, or contracts,” 5 U.S.C. 553(a)(2), and is therefore exempt from the requirement of prior notice and comment.

Waiver of Delayed Effective Date

Under 5 U.S.C. 553(d), agencies may waive the delayed effective date requirement if they find good cause and explain the basis for the waiver in the final rulemaking document or if the regulations grant or recognize an exemption or relieve a restriction.

OMB informed the public on April 4, 2024, that agencies would be required to adopt the Uniform Guidance and make it effective by October 1, 2024. The public has had significant time to prepare for the promulgation of these final regulations. As such, the EAC has determined there is good cause to waive the delayed effective date.

List of Subjects in 2 CFR Part 5081

Accounting, administrative practice and procedure, federal financial assistance, grant programs, grants administration, state and local governments, state-federal relations.

For the reasons stated, Part 5801 is established in Chapter LVIII of Title 2 of the Code of Federal Regulations to read as follows:

PART 5801—UNIFORM ADMINISTRATIVE REQUIREMENTS, COST PRINCIPLES, AND AUDIT REQUIREMENTS FOR FEDERAL AWARDS

Sec.
5801.10 Adoption of 2 CFR part 200
5801.20 through 5801.99 [Reserved].

Authority: 2 CFR part 200.

§ 5801.10 Adoption of 2 CFR Part 200.

The U.S. Election Assistance Commission adopts the Office of Management and Budget (OMB) Guidance in 2 CFR part 200. Thus, this part gives regulatory effect to the OMB guidance.

§§ 5801.20 through 5801.99 [Reserved].

Camden Kelliher,
General Counsel, U.S. Election Assistance Commission.

[FR Doc. 2024-29685 Filed 12-16-24; 8:45 am]

BILLING CODE 4810-71-P